DEPARTMENT OF COMMERCE

International Trade Administration

[A-583-833]

Polyester Staple Fiber from Taiwan: Rescission of Antidumping Duty Administrative Review in Part

AGENCY: Import Administration, International Trade Administration, Department of Commerce.

SUMMARY: On June 30, 2010, in response to a request from an interested party, the Department of Commerce initiated an administrative review of the antidumping duty order on polyester staple fiber from Taiwan. The period of review is May 1, 2009, through April 30, 2010. The Department of Commerce is rescinding this review in part.

EFFECTIVE DATE: August 20, 2010.

FOR FURTHER INFORMATION: Michael A. Romani or Richard Rimlinger, AD/CVD Operations, Office 5, Import Administration, International Trade Administration, U.S. Department of Commerce, 14th Street and Constitution Avenue, NW, Washington, DC 20230; telephone: (202) 482-0198 or (202) 482-4477.

SUPPLEMENTARY INFORMATION:

Background

On June 30, 2010, in response to a request from the petitioner, Invista, S.a.r.L., the Department of Commerce (the Department) initiated an administrative review of the antidumping duty order on polyester staple fiber from Taiwan with respect to respondents Nan Ya Plastics Corporation and Far Eastern Textiles Ltd. (aka and dba Far Eastern New Century Corporation). See

Initiation of Antidumping and Countervailing Duty Administrative Reviews and Requests for Revocation in Part

, 75 FR 37759 (June 30, 2010). On July 28, 2010, Invista, S.a.r.L withdrew its request for an administrative review of Nan Ya Plastics Corporation.

Rescission of Review in Part

In accordance with 19 CFR 351.213(d)(1) the Department will rescind an administrative review “if a party that requested a review withdraws the request within 90 days of the date of publication of notice of initiation of the requested review.” We received Invista, S.a.r.L's withdrawal letter within the 90-day time limit. Because the Department received no other requests for review of Nan Ya Plastics Corporation, the Department is rescinding the review with respect to Nan Ya Plastics Corporation. This rescission is pursuant to 19 CFR 351.213(d)(1). The Department will issue appropriate assessment instructions to U.S. Customs and Border Protection 15 days after publication of this notice.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

We are issuing and publishing this rescission in accordance with section 777(i)(1) of the Tariff Act of 1930, as amended, and 19 CFR 351.213(d)(4).

Dated: August 16, 2010.
Edward C. Yang,
Acting Deputy Assistant Secretary for Antidumping and Countervailing Duty Operations.

[FR Doc. 2010-20751 Filed 8-19-10; 8:45 am]

BILLING CODE 3510-DS-S